DEPARTMENT OF HEALTH AND HUMAN SERVICES

Meeting of the National Advisory Committee on Children and Disasters

AGENCY: Office of the Secretary, Department of Health and Human Services.

ACTION: Notice.

SUMMARY: As stipulated by the Federal Advisory Committee Act, the Department of Health and Human Services (HHS) is hereby giving notice that the National Advisory Committee on Children and Disasters (NACCD) will be holding a meeting via teleconference. The meeting is open to the public.

DATES: The February 26, 2015, NACCD meeting is scheduled from 2:00 p.m. to 3:00 p.m. EST. The agenda is subject to change as priorities dictate. Please check the NACCD Web site, located at WWW.PHE.GOV/NACCD for the most up-to-date information on the meeting.

ADDRESSES: To attend the meeting via teleconference, call toll-free: 1-877-601-4720. The pass-code is: 9977742. Please call 15 minutes prior to the beginning of the conference call to facilitate attendance. Pre-registration is required for public attendance. Individuals who wish to attend the meeting should submit an inquiry via the NACCD Contact Form located at www.phe.gov/NACCDComments.

FOR FURTHER INFORMATION CONTACT: Please submit an inquiry via the NACCD Contact Form located at www.phe.gov/NACCDComments.

SUPPLEMENTARY INFORMATION: Pursuant to the Federal Advisory Committee Act (FACA) of 1972 (5 U.S. C., Appendix, as amended), and section 2811A of the Public Health Service (PHS) Act (42 U.S. C. 300hh-10a), as added by section 103 of the Pandemic and All Hazards Preparedness Reauthorization Act of 2013 (Pub. L. 113-5), the HHS Secretary, in consultation with the Secretary of the U.S. Department of Homeland Security, established the National Advisory Committee on Children and Disasters (NACCD). The purpose of the NACCD is to provide advice and consultation to the HHS Secretary with respect to the medical and public health needs of children in relation to disasters. The Office of the Assistant Secretary for Preparedness and Response (ASPR) provides management and administrative oversight to support the activities of the NACCD.

Background: This public meeting will be dedicated to the members voting to approve the report of findings of the NACCD Surge Capacity Work Group.

Availability of Materials: The meeting agenda and materials will be posted on the NACCD Web site at: www.phe.gov/naccd prior to the meeting.

Procedures for Providing Public Input: All written comments must be received prior to February 24, 2015. Please submit comments via the NACCD Contact Form located at www.phe.gov/NACCDComments. Individuals who plan to attend and need special assistance should submit a request via the NACCD Contact Form located at www.phe.gov/NACCDComments.

Dated: January 22, 2015.
Nicole Lurie,
Assistant Secretary for Preparedness and Response.

[FR Doc. 2015-01615 Filed 2-2-15; 8:45 am]

BILLING CODE P